INTERNATIONAL TRADE COMMISSION

[Investigation No. 1210-008]

WCO Eighth Review Cycle: Request for Proposals To Amend the International Harmonized System for Implementation in 2033

AGENCY: United States International Trade Commission.

ACTION: Request for Proposals to Amend the International Harmonized System Tariff Nomenclature.

SUMMARY: The Commission is requesting proposals from interested persons and agencies to amend the International Harmonized Commodity Description and Coding System (Harmonized System or HS) in connection with the Eighth Review Cycle of the World Customs Organization (WCO), with a view to keeping the Harmonized System current with changes in technology and trade patterns. The proposals will be reviewed by the Commission, U.S. Customs and Border Protection (CBP), and the United States Trade Representative (USTR) for potential submission by the U.S. Government to the WCO in Brussels, Belgium.

DATES: Suggested deadline for submissions: October 1, 2027.

ADDRESSES: All Commission offices are located in the United States International Trade Commission Building, 500 E Street SW, Washington, DC. All written submissions should be addressed to the Secretary, United States International Trade Commission, 500 E Street SW, Washington, DC 20436. The public record for this collection of proposals may be viewed on the Commission's electronic docket (EDIS) at edis.usitc.gov.

FOR FURTHER INFORMATION CONTACT: Jennifer Rohrbach, Office of Tariff Affairs and Trade Agreements (202-205-2088, jennifer.rohrbach@usitc.gov). The media should contact Claire Huber (202-205-1819, claire.huber@usitc.gov). Hearing impaired individuals may obtain information on this matter by contacting the Commission's TDD terminal at 202-205-1810. General information concerning the Commission may also be obtained by visiting www.usitc.gov. Persons with mobility impairments who will need special assistance in gaining access to the Commission should contact the Office of the Secretary at 202-205-2000.

SUPPLEMENTARY INFORMATION:

Background: The Harmonized System, or HS, was established by an international convention, which, inter alia, provides that the HS should be kept up to date in light of changes in technology and patterns of international trade. The HS, which is maintained by the World Customs Organization (WCO), provides a uniform structural basis for the customs tariffs and statistical nomenclatures of all major trading countries of the world, including the United States.

Section 1210 of the Omnibus Trade and Competitiveness Act of 1988 (the 1988 Act) (19 U.S.C. 3010) designates the Commission, the U.S. Department of the Treasury, and the U.S. Department of Commerce, subject to the policy direction of the USTR, as the principal agencies responsible for formulating U.S. Government positions on technical and procedural issues and in representing the U.S. Government in activities of the WCO that relate to the HS. The Office of the USTR subsequently designated the Commission to lead the U.S. delegation to the HS Review Subcommittee (RSC), a subcommittee of the Harmonized System Committee (HSC), which is responsible for considering amendments to the HS in order to keep the HS current with changes in technology and patterns of international trade (see 53 FR 45646, Nov. 10, 1988).

Through this notice the Commission is seeking proposals to amend the HS in connection with the Eighth Review Cycle of the HS Review Subcommittee of the WCO. Proposals received will be made a part of the Commission's record keeping system and available for public inspection (with the exception of any confidential business information) through the Commission's record files and through the Commission's electronic docket (EDIS).

An up-to-date copy of the Harmonized Tariff Schedule of the United States (HTS), which incorporates the international HS in its overall structure, can be found on the Commission's website (http://hts.usitc.gov).

Request for Proposals: The Commission is seeking proposals for specific modifications to the international Harmonized System (section and chapter notes, and the texts of 4-digit headings and 6-digit subheadings) that would describe new products or technologies, modify or eliminate unclear or obsolete categories, or otherwise advance the goals set out by the HS Convention. No proposals for changes to U.S. national-level provisions (including Additional U.S. Notes, 8-digit subheadings, 10-digit statistical annotations, and rates of duty) will be considered by the Commission as part of this review. Interested parties, associations, and government agencies should submit specific language for proposed amendments to the HS, together with appropriate descriptive comments and, to the extent available, relevant trade data. The implementation of changes in the international HS by the United States will be tariff neutral.

As part of this review, the Commission particularly invites proposals concerning the following matters:

—The deletion of HS headings or subheadings with low trade volume;

—The creation of separate 4-digit headings or 6-digit subheadings to identify types of products that are important in international trade but are not adequately classified;

—The simplification of the HS, whether by the modification of provisions for greater clarity or the elimination of provisions that are difficult to administer; and/or

—The suggestion of other changes that would improve the classification of products, especially those being exported from the United States, or assist in the administration of the HS and the more uniform classification of goods internationally.

This notice does not seek proposals for changes to the HS Explanatory Notes, which are maintained by the WCO and are reviewed separately. However, requests for changes to current Explanatory Notes (not arising from potential 2033 legal amendments to the HS) may be sent by a WCO member government directly to the HSC at any time. Government agencies and private sector parties interested in such action should contact the Commission (see contacts above) or the following CBP officials: Yuliya A. Gulis, Director, Commercial & Trade Facilitation (CTF) Division, Office of Trade, Regulations and Rulings, 202-325-0042, or Gregory Connor, Chief, Electronics, Machinery, Automotive and International Nomenclature Branch, CTF Division, Office of Trade, Regulations and Rulings, 202-325-0025.

The proposals will be reviewed by the Commission, CBP, and USTR for potential submission by the U.S. Government to the WCO in Brussels, Belgium.

Written Submissions: Interested persons and agencies are invited to submit written proposals, which should be addressed to the Secretary to the Commission and received no later than October 1, 2027. Although submissions will be accepted after this date, it is recommended that proposals be submitted as soon as possible to ensure full consideration in the eighth HS review cycle. Submissions should be marked with a reference to Investigation Number 1210-008.

All written submissions must conform with the provisions of section 201.8 of the Commission's Rules of Practice and Procedure (19 CFR 201.8). Section 201.8 of the Commission's rules require the filing of all submissions with the Secretary electronically, (see Handbook for Electronic Filing Procedures, https://www.usitc.gov/documents/handbook_on_filing_procedures.pdf). Persons with questions regarding electronic filing should contact the Secretary (202-205-2000).

Submission will preferably be public, but in the event that confidential treatment of a document is requested, a non-confidential version must also be filed (see the following paragraph for further information regarding confidential business information). Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets.

All written submissions, except for confidential business information, will be made available for inspection by interested parties. Confidential business information received in the proposals may be made available to Customs and Census during the examination of these proposals. The Commission will not otherwise publish or release any confidential business information received, nor release it to other government agencies or other persons.

By order of the Commission.
Issued: December 11, 2025.
Lisa Barton,
Secretary to the Commission.

[FR Doc. 2025-22764 Filed 12-12-25; 8:45 am]

BILLING CODE 7020-02-P